DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, August 8, 2002, 4 p.m. to August 8, 2002, 5 p.m. Crystal Gateway Marriott, 1700 Jefferson Davis Highway, Arlington, VA, 22202 which was published in the Federal Register on July 15, 2002, 67 FR 46531.

The meeting on August 8, 2002 will be from 3 a.m. to 5 p.m. at the Courtyard by Marriott Hotel in Arlington, VA. The meeting is closed to the public.

Dated: July 30, 2002.
LaVerne Y. Stringfield,
Director, Office of Federal Advisory Committee Policy.

[FR Doc. 02-19722 Filed 8-2-02; 8:45 am]

BILLING CODE 4140-01-M